DEPARTMENT OF HOMELAND SECURITY

Coast Guard

33 CFR Part 117

[Docket No. USCG-2011-0036]

Drawbridge Operation Regulation; Bayou Tigre, Vermillion Parish, LA

AGENCY: Coast Guard, DHS.

ACTION: Notice of temporary deviation from regulations.

SUMMARY: The Commander, Eighth Coast Guard District, has issued a temporary deviation from the regulation governing the operation of the Bayou Tigre (LA 330) bridge across Bayou Tigre, mile 2.3, near Delcambre, Vermillion Parish, Louisiana. This deviation is necessary to allow timely bridge rehabilitation to improve overall traffic, boat and pedestrian safety. This deviation allows the bridge to remain closed to vessel traffic.

DATES: This deviation is effective from 12:01 a.m. on March 1, 2011 through 11:59 p.m. on April 1, 2011.

ADDRESSES: Documents mentioned in this preamble as being available in the docket are part of docket USCG-2011-0036 and are available online by going to http://www.regulations.gov, inserting USCG-2011-0036 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Jim Wetherington, Bridge Management Specialist, District 8 Bridge Branch, U.S. Coast Guard; telephone 504-671-2128 e-mail james.r.wetherington@uscg.mil. If you have questions on viewing the docket, call Renee V. Wright, Program Manager, Docket Operations, telephone 202-366-9826.

SUPPLEMENTARY INFORMATION: The Louisiana Department of Transportation and Development requests a temporary deviation from the published regulation for the Bayou Tigre (LA 330) bridge (5 feet vertical clearance when closed at mean high water) across Bayou Tigre as required by 33 CFR 117.5: Except as otherwise authorized or required by this part, drawbridges must open promptly and fully for the passage of vessels when a request or signal to open is given in accordance with this subpart. Currently, according to 33 CFR 117.507, the draw of the Bayou Tigre (LA 330) bridge shall open on signal if at least four hours notice is given.

The Louisiana Department of Transportation and Development requests a deviation to allow the bridge to remain closed to marine traffic from 12:01 a.m. on March 1, 2011 through 11:59 p.m. on April 1, 2011. This time period has been coordinated through the waterway users and the responsible Coast Guard Units. There is no alternative route around the project.

This deviation will allow the rehabilitation of the bridge to be completed in a timely fashion. This rehabilitation is necessary to extend the bridge life and optimize traffic and boat operations. It will also improve overall traffic, boat and pedestrian safety.

The deviation dates and schedule were chosen to minimize significant effect on vessel traffic. Any vessel that does not require an opening of the drawspan may pass at any time; the vertical clearance is five feet mean high water when closed.

In accordance with 33 CFR 117.35(e), the drawbridge must return to its regular operating schedule immediately at the end of the designated time period.

This deviation from the operating regulations is authorized under 33 CFR 117.35. This deviation may be terminated/cancelled at any time via Broadcast Notice to Mariners.

Dated: January 21, 2011.
David M. Frank,
Bridge Administrator.

[FR Doc. 2011-2223 Filed 2-1-11; 8:45 am]

BILLING CODE 9110-04-P